DEPARTMENT OF JUSTICE

Drug Enforcement Administration

[Docket No. DEA-719]

Bulk Manufacturer of Controlled Substances Application: Rhodes Technologies

AGENCY: Drug Enforcement Administration, Justice.

ACTION: Notice of application.

SUMMARY: Rhodes Technologies has applied to be registered as a bulk manufacturer of basic class(es) of controlled substance(s). Refer to Supplemental Information listed below for further drug information.

DATES: Registered bulk manufacturers of the affected basic class(es), and applicants therefore, may file written comments on or objections to the issuance of the proposed registration on or before November 17, 2020. Such persons may also file a written request for a hearing on the application on or before November 17, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on February 13, 2020, Rhodes Technologies, 498 Washington Street, Coventry, Rhode Island 02816, applied to be registered as an bulk manufacturer of the following basic class(es) of controlled substance(s):

Controlled substance | Drug code | Schedule
Marihuana | 7360 | I
Tetrahydrocannabinols | 7370 | I
Dihydromorphine | 9145 | I
Methylphenidate | 1724 | II
Codeine | 9050 | II
Dihydrocodeine | 9120 | II
Oxycodone | 9143 | II
Hydromorphone | 9150 | II
Hydrocodone | 9193 | II
Levorphanol | 9220 | II
Morphine | 9300 | II
Oripavine | 9330 | II
Thebaine | 9333 | II
Oxymorphone | 9652 | II
Noroxymorphone | 9668 | II
Tapentadol | 9780 | II
Fentanyl | 9801 | II

The company plans to manufacture the above-listed controlled substance(s) in bulk for conversion and sale to finished dosage form manufacturers. In reference to drug codes 7360 (marihuana), and 7370 (tetrahydrocannabinols), the company plans to bulk manufacture these drugs as synthetic cannabidiol and tetrahydrocannabinol. No other activity for these drug codes is authorized for this registration.

William T. McDermott,
Assistant Administrator.

[FR Doc. 2020-20596 Filed 9-17-20; 8:45 am]

BILLING CODE P